DEPARTMENT OF HOMELAND SECURITY

Federal Emergency Management Agency

Agency Information Collection Activities: Proposed Collection; Comment Request

AGENCY: Federal Emergency Management Agency, DHS.

ACTION: Notice; 60-day notice and request for comments; Revision of a currently approved collection, OMB Number: 1660-0070, FEMA Form 75-100.

SUMMARY: The Federal Emergency Management Agency, as part of its continuing effort to reduce paperwork and respondent burden, invites the general public and other Federal agencies to take this opportunity to comment on a revised information collection. In accordance with the Paperwork Reduction Act of 1995, this notice seeks comments concerning the use of a form to collect data for the development and continuation of the National Fire Department Census database.

SUPPLEMENTARY INFORMATION: Public Law 93-498 provides for the gathering and analyzing of data as deemed useful and applicable for fire departments. The U.S. Fire Administration (USFA) receives many requests from fire service organizations and the general public for information related to fire departments, including total number of departments, number of stations per department, population protected, and number of firefighters. The USFA also has a need for this information to guide programmatic decisions, and produce mailing lists for USFA publications. Recommendations for the creation of the fire department database came out of a Blue Ribbon Panel's review of the USFA. The report included a review of the structure, mission and funding of the USFA, future policies, programmatic needs, course development and delivery, and the role of the USFA to reflect changes in the fire service. As a result of those recommendations, the USFA is working to identify all fire departments in the United States to develop a database that will include information related to demographics, capabilities, and activities of fire departments Nationwide. In the first year of this effort, information was collected from 16,000 fire departments. Since the first year of the collection, an additional 10,000 departments have registered.

Collection of Information

Title: National Fire Department Census.

Type of Information Collection: Revision of a currently approved collection.

OMB Number: 1660-0070.

Form Numbers: FEMA Form 75-100, National Fire Department Census.

Abstract: This collection seeks to identify fire departments in the U.S. to compile a database related to demographics, capabilities, and activities. The database will be used to guide programmatic decisions and provide information to the public.

Affected Public: Federal Government, State, Local or Tribal Government.

Estimated Total Annual Burden Hours: 1,667 burden hours.

Annual Hour Burden

Table A.12—Estimated Annualized Burden Hours and Costs
Type of respondent | Form name/form number | Number of respondents | Number of responses per respondent | Avg. burden per response (in hours) | Total annual burden (in hours) | Avg. hourly wage rate | Total annual respondent cost
State, Local, or Tribal | FF 75-100 | 528 | 1 | 25 minutes (.4167 hours) | 220.02 | $21.22 | $4,668.82
State, Local, or Tribal (volunteers) | FF 75-100 | 3472 | 1 | 25 minutes (.4167 hours) | 1,446.78 | 0 | 0
Total |  | 4,000 |  |  | 1,667 |  | $4,668.82

Estimated Cost: The estimated annualized cost to respondents based on wage rate categories is $4,668.82. The estimated annual cost to the Federal Government is $65,550.00.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before February 2, 2009.

ADDRESSES: Interested persons should submit written comments to Office of Management, Records Management Division, Federal Emergency Management Agency, 500 C Street, SW., Washington, DC 20472.

FOR FURTHER INFORMATION CONTACT: Contact Gayle Kelch, Statistician, United States Fire Administration, National Fire Data Center, (301) 447-1154 for additional information. You may contact the Records Management Branch for copies of the proposed collection of information at facsimile number (202) 646-3347 or e-mail address: FEMA-Information-Collections@dhs.gov.

Lawann B. Johnson,
Acting Director, Records Management Division, Office of Management, Federal Emergency Management Agency, Department of Homeland Security.

[FR Doc. E8-28689 Filed 12-3-08; 8:45 am]

BILLING CODE 9110-17-P